DEPARTMENT OF COMMERCE

National Oceanic and Atmospheric Administration

50 CFR Part 622

[Docket No. 221003-0209]

RIN 0648-BL62

Fisheries of the Caribbean, Gulf of Mexico, and South Atlantic; Coastal Migratory Pelagics Resources in the Gulf of Mexico and Atlantic Region; Framework Amendment 11

AGENCY: National Marine Fisheries Service (NMFS), National Oceanic and Atmospheric Administration (NOAA), Commerce.

ACTION: Proposed rule; request for comments.

SUMMARY: NMFS proposes regulations to implement management measures described in Framework Amendment 11 to the Fishery Management Plan (FMP) for the Coastal Migratory Pelagic (CMP) Resources of the Gulf of Mexico and Atlantic Region (CMP FMP), as prepared and submitted by the Gulf of Mexico Fishery Management Council (Gulf Council). This proposed rule and Framework Amendment 11 would revise the Gulf of Mexico (Gulf) migratory group of king mackerel (Gulf king mackerel) catch limits. The purpose of this proposed rule and Framework Amendment 11 is to update catch limits to be consistent with the best scientific information available.

DATES: Written comments must be received on or before November 7, 2022.

ADDRESSES: You may submit comments on the proposed rule, identified by “NOAA-NMFS-2022-0078,” by either of the following methods:

• Electronic Submission: Submit all electronic public comments via the Federal e-Rulemaking Portal. Go to https://www.regulations.gov and enter “NOAA-NMFS-2022-0078”, in the Search box. Click the “Comment” icon, complete the required fields, and enter or attach your comments.

• Mail: Submit written comments to Kelli O'Donnell, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Framework Amendment 11, which includes a regulatory impact review, may be obtained from the Southeast Regional Office website at https://www.fisheries.noaa.gov/action/framework-11-management-gulf-king-mackerel.

FOR FURTHER INFORMATION CONTACT: Kelli O'Donnell, telephone: 727-824-5305, or email: Kelli.ODonnell@noaa.gov.

SUPPLEMENTARY INFORMATION: Gulf king mackerel is managed under the CMP FMP prepared by the Gulf and South Atlantic Fishery Management Councils (Councils) and implemented through regulations at 50 CFR part 622 under the authority of the Magnuson-Stevens Fishery Conservation and Management Act (Magnuson-Stevens Act).

All weights in this proposed rule are in round and eviscerated weight combined, unless otherwise specified.

Background

Under the CMP FMP, the Gulf Council manages fishing for Gulf king mackerel in Federal waters from Texas to the Florida Monroe/Miami-Dade County boundary. The Gulf king mackerel stock annual catch limit (ACL) is allocated between the commercial and recreational sectors.

The current overfishing limit (OFL) and acceptable biological catch (ABC) are 8,950,000 lb (4,059,652 kg) and 8,550,000 lb (3,878,215 kg), respectively. The current stock ACL is equal to the ABC. The OFL, ABC, and stock ACL were established in 2017 in Amendment 26 to the CMP FMP (82 FR 17387; April 11, 2017). These catch limits are based on projections from the Southeast Data Assessment and Review (SEDAR) 38 stock assessment and recommendations by the Council's Scientific and Statistical Committees (SSCs). The recreational landings estimates used in SEDAR 38 included data from the Marine Recreational Information Program's (MRIP) Coastal Household Telephone Survey (CHTS). MRIP now generates recreational landings estimates using the Fishing Effort Survey (FES) and the historical time series of king mackerel recreational landings has been calibrated to be consistent with the MRIP-FES estimates. The estimates generated using MRIP-FES are generally higher than those produced using CHTS because the new survey is designed to more accurately measure fishing activity.

In 2020, NMFS completed an update to SEDAR 38 that included calibrated MRIP-FES recreational landings. The Update indicated that Gulf group king mackerel was not overfished or undergoing overfishing, but recruitment had been low in recent years. In September 2020, the Gulf Council's SSC reviewed the SEDAR 38 Update and recommended a new OFL and ABC for Gulf group king mackerel that would address reduced recruitment and allow harvest to increase over time. The SSC's recommendation for the revised OFL is 11,050,000 lb (5,012,196 kg) for 2022, and 11,180,000 lb (5,071,163 kg) for 2023 and subsequent years. The SSC's recommendation for ABC is 9,720,000 lb (4,408,918 kg) for 2022, and 9,990,000 lb (4,531,388 kg) for 2023 and subsequent years. These OFL and ABC recommendations represent a reduction in the allowable harvest when compared to the current OFL and ABC. Had MRIP-FES data been available when SEDAR 38 was completed in 2014, the current OFL would have been 11,960,000 lb (5,424,965 kg) and the current ABC would have been 11,540,000 (5,234,456 kg). The Gulf Council and NMFS developed Framework Amendment 11 to update catch levels based on the results of the SEDAR 38 Update and Gulf SSC recommendations.

The Gulf Council manages Gulf king mackerel with sector allocations. In Amendment 1 to the FMP (50 FR 34840; August 25, 1985), the Councils allocated the total Gulf king mackerel ACL to 32 percent to the commercial sector and 68 percent to the recreational sector based on the average of available commercial and recreational landings data from 1975-1979. In Amendment 26, the Councils allocated the Gulf king mackerel total commercial ACL between the commercial Gulf zones: western zone (40 percent), northern (18 percent), and southern zone (42 percent). The southern zone was further divided by gear components with 50 percent of the southern zone allocation going to the hook and line component and 50 percent going to the gillnet component.

The fishing year for commercial harvest varies by zone: July through June for the Southern and Western zones, and October through September for the Northern zone. For the purpose of comparing landings to the total ACL, recreational landings are monitored based on the commercial fishing year of July through June. Therefore, the sector ACLs and commercial quotas reflect that these fishing years occur in two calendar years, as noted below.

Management Measures Contained in This Proposed Rule

For Gulf king mackerel, this proposed rule would revise sector ACLs and the commercial zone quotas.

ACLs and Quotas

The current total ACL for Gulf king mackerel is equal to the ABC of 8,550,000 lb (3,878,215 kg). This rulemaking would modify the total ACL for Gulf king mackerel to 9,720,000 lb (4,408,918 kg) for 2022 and 9,990,000 lb (4,531,388 kg) for 2023 and subsequent years, which is also equal to the ABCs recommended by the Gulf Council's SSC. The 2022 total ACL would be used to establish the sector and zone catch limits for the 2022-2023 fishing year and the 2023 total ACL would be used the sector and zone catch limits for 2023-2024 and subsequent fishing years. As noted previously, the proposed ACLs represent a decrease in the allowable harvest of Gulf king mackerel because had the current total ACL been derived from an assessment using MRIP-FES data, the current total ACL would have been 11,540,000 lb (5,234,456 kg).

The current commercial ACL for the 2022-2023 fishing year is 2,740,000 lb (1,242,843 kg). Applying the current commercial allocation of 32 results in the proposed commercial ACLs of 3,110,400 lb (1,410,854 kg) for the 2022-2023 fishing year, and 3,196,800 lb (1,450,044 kg) for the 2023-2024 and subsequent years. The current recreational ACL for the 2022-2023 fishing year is 5,810,000 lb (2,635,372 kg). Applying the current recreational allocation of 68 percent results in proposed recreational ACLs of 6,609,600 lb (2,998,064 kg) for the 2022-2023 fishing year, and 6,793,200 lb (3,081,344 kg) for the 2023-2024 and subsequent years. Because the proposed recreational ACL will now be monitored using landings estimates generated by MRIP-FES this represents a decrease in the allowable recreational harvest. However, recreational landings, as estimated using MRIP-FES, have been well below the proposed ACLs since the 2016-2017 fishing year and NMFS does not expect the reduction in the recreational ACL to reduce recreational opportunities.

The current zone quotas for the 2022-2023 fishing year are 1,096,000 lb (497,137 kg) for the western zone, 493,200 lb (223,712 kg) for the northern zone, 575,400 lb (260,997 kg) for the southern zone hook-and-line component, and 575,400 lb (260,997 kg) for the southern zone gillnet component. The current total commercial hook-and-line ACL for the entire Gulf for the 2022-2023 fishing year is 2,164,600 lb (981,846 kg). Using the current commercial zone allocations, this proposed rule would revise the western zone quota to 1,244,160 lb (564,341 kg) for the 2022-2023 fishing year, and 1,278,720 lb (580,017 kg) for 2023-2024 fishing year and subsequent fishing years. The northern zone quota would be 559,872 lb (253,954 kg) for the 2022-2023 fishing year and 575,424 lb (261,008 kg) for the 2023-2024 fishing year and subsequent fishing years. The southern zone hook and line component quota would be 653,184 lb (296,279 kg) for the 2022-2023 fishing year, and 671,328 lb (304,509 kg) for the 2023-2024 fishing year and subsequent years. The southern zone gillnet component quota would be 653,184 lb (296,279 kg) for the 2022-2023 fishing year, and 671,328 lb (304,509 kg) for the 2023-2024 fishing year and subsequent fishing years. The total commercial hook and line ACL (entire Gulf) would be 2,457,216 lb (1,114,574 kg) for the 2022-2023 fishing year, and 2,525,472 lb (1,145,535 kg) for the 2023-2024 fishing year and subsequent fishing years. The southern zone gillnet component quota would be 653,184 lb (296,279 kg) for the 2022-2023 fishing year, and 671,328 lb (304,509 kg) for the 2023-2024 fishing year and subsequent fishing years.

Management Measures in Framework Amendment 11 Not Codified Through This Proposed Rule

OFL and ABC

As previously discussed, the current OFL and ABC for Gulf king mackerel of 8,950,000 lb (4,059,652 kg) and 8,550,000 lb (3,878,214 kg), are based on the Councils' SSCs' recommendations from SEDAR 38, which used recreational landings estimates from MRIP-CHTS. Framework Amendment 11 would adopt new OFLs and ABCs based on the Gulf Council's SSC recommendations from the results of the SEDAR 38 Update, which used MRIP-FES recreational landings estimates. The new OFLs would be 11,050,000 lb (5,012,196 kg) for 2022, and 11,180,000 lb (5,071,163 kg) for 2023 and subsequent years. The new ABCs would be 9,720,000 lb (4,408,918 kg) for 2022, and 9,990,000 lb (4,531,388 kg) for 2023 and subsequent years.

Classification

Pursuant to section 304(b)(1)(A) of the Magnuson-Stevens Act, the NMFS Assistant Administrator has determined that this proposed rule is consistent with the framework action, the CMP FMP, other provisions of the Magnuson-Stevens Act, and other applicable law, subject to further consideration after public comment.

This proposed rule has been determined to be not significant for purposes of Executive Order 12866.

Pursuant to section 605(b) of the Regulatory Flexibility Act (RFA), the Chief Counsel for Regulation of the Department of Commerce has certified to the Chief Counsel for Advocacy of the Small Business Administration (SBA) that this proposed rule, if adopted, would not have a significant economic impact on a substantial number of small entities. The factual basis for this determination follows.

A description of this proposed rule, why it is being considered, and the objectives of this proposed rule are contained in this SUPPLEMENTARY INFORMATION section. The Magnuson-Stevens Act provides the statutory basis for this proposed rule.

This proposed rule, if implemented, would apply to all commercial vessels, charter vessels and headboats (for-hire vessels), and recreational anglers that fish for or harvest Gulf king mackerel, which occurs throughout the Gulf and off of Monroe County, Florida in the South Atlantic. The RFA does not consider recreational anglers to be small entities, so they are outside the scope of this analysis (5 U.S.C. 603). Small entities include small businesses, small organizations, and small governmental jurisdictions (5 U.S.C. 601(6) and 601(3)-(5)). Recreational anglers are not businesses, organizations, or governmental jurisdictions.

For-hire vessels sell fishing services to recreational anglers. The proposed changes to the Gulf migratory group king mackerel catch limits would not directly alter the services sold by these for-hire vessels. Any change in anglers' demand for these fishing services (and associated economic effects) as a result of the proposed action would be secondary to any direct effect on anglers and, therefore, would be an indirect effect of this proposed rule. Indirect effects fall outside the scope of the RFA. However, for-hire captains and crew are allowed to sell Gulf king mackerel harvested under the recreational bag limit when the commercial season is open, if they have both a Gulf Charter/Headboat for Coastal Migratory Pelagics permit (Gulf CMP for-hire permit) and a valid commercial king mackerel permit. Therefore, for-hire businesses, or employees thereof, could be directly affected by this proposed rule.

During 2020, there were a total of 1,426 valid or renewable commercial king mackerel permits and 17 valid or renewable king mackerel gillnet endorsements. Only vessels with both the commercial permit and gillnet endorsement are allowed to harvest king mackerel in the southern zone using gillnet gear. On average from 2016 through 2020, there were 254 federally-permitted commercial vessels with reported landings of king mackerel in the Gulf. Their average annual vessel-level gross revenue from all species from 2016 through 2020, was approximately $93,426 (2021 dollars) and king mackerel harvested in the Gulf accounted for approximately 23 percent of this revenue. For commercial vessels that harvest Gulf king mackerel in the Gulf, it is estimated that economic profits are approximately 21.6 percent of annual gross revenue, on average. During the same period, there were 128 federally-permitted commercial vessels with reported landings of Gulf king mackerel in the South Atlantic. Their average annual vessel-level revenue from all species for 2016 through 2020 was approximately $40,035 (2021 dollars) and Gulf king mackerel harvested in the South Atlantic accounted for approximately 14 percent of this revenue. For commercial vessels that harvest Gulf king mackerel in the South Atlantic, it is estimated that economic profits are approximately 4.5 percent of annual gross revenue, on average. The maximum annual revenue from all species reported by a single one of the vessels that harvested Gulf king mackerel from 2016 through 2020, was approximately $2.44 million (2021 dollars).

For anglers to fish for or possess CMP species in or from Gulf Federal waters on for-hire vessels, those vessels are required to have a limited access Gulf CMP for-hire permit. On February 1, 2022, there were 1,299 valid (non-expired) or renewable Gulf CMP for-hire permits and 4 valid or renewable Gulf CMP historical captain for-hire permits. For anglers to fish for or possess CMP species in or from the Mid-Atlantic or South Atlantic Federal waters on for-hire vessels, those vessels are required to have an open access South Atlantic Charter/Headboat for Coastal Migratory Pelagic permit (South Atlantic CMP for-hire permit). On September 3, 2021, there were 1,825 valid South Atlantic CMP for-hire permits. Although the for-hire permit application collects information on the primary method of fishing operation, the permit itself does not identify the permitted vessel as either a headboat or a charter vessel and vessels may operate in both capacities under that permit. However, only federally permitted headboats are required to submit harvest and effort information to the NMFS Southeast Region Headboat Survey (SRHS). Participation in the SRHS is based on determination by the Southeast Fisheries Science Center (SEFSC) that the vessel primarily operates as a headboat. As of February 22, 2022, 69 Gulf headboats and 66 South Atlantic headboats were registered in the SRHS. As a result, of the 1,303 vessels with Gulf CMP for-hire permits (including historical captain permits), up to 69 may primarily operate as headboats and the remainder as charter vessels. Of the 1,825 vessels with South Atlantic CMP for-hire permits, up to 66 may primarily operate as headboats.

The average charter vessel operating in the Gulf is estimated to receive approximately $94,000 (2021 dollars) in gross revenue and $28,000 in net income (gross revenue minus variable and fixed costs) annually. The average Gulf headboat is estimated to receive approximately $451,000 (2021 dollars) in gross revenue and $84,000 in net income annually. The average charter vessel operating in the South Atlantic is estimated to receive approximately $132,000 (2021 dollars) in annual gross revenue. The average South Atlantic headboat is expected to receive approximately $234,000 (2021 dollars) in annual gross revenue. Estimates of annual net income for South Atlantic charter vessels and headboats are not available.

For RFA purposes only, NMFS has established a small business size standard for businesses, including their affiliates, whose primary industry is commercial fishing (see 50 CFR 200.2). A business primarily engaged in commercial fishing (North American Industry Classification System (NAICS) code 11411) is classified as a small business if it is independently owned and operated, is not dominant in its field of operation (including its affiliates), and has combined annual receipts not in excess of $11 million for all its affiliated operations worldwide. All of the commercial fishing businesses directly regulated by this proposed rule are believed to be small entities based on the NMFS size standard.

The SBA has established size standards for all major industry sectors in the U.S., including for-hire businesses (NAICS code 487210). A business primarily involved in the for-hire fishing industry is classified as a small business if it is independently owned and operated, is not dominant in its field of operation (including its affiliates), and has combined annual receipts not in excess of $8 million for all its affiliated operations worldwide. All of the for-hire vessels directly regulated by this proposed rule are believed to be small entities based on the SBA size criteria.

No other small entities that would be directly affected by this proposed rule have been identified.

CMP Framework Amendment 11 and this proposed rule would modify the Gulf king mackerel OFL, ABC, and total ACL as recommended by the Gulf's SSC for the 2021-2022 through 2023-2024 and subsequent fishing years. The total ACL would be set equal to the ABC or 9,720,000 lb (4,408,918 kg) in the 2022-2023 fishing year and then to 9,990,000 lb (4,531,388 kg) in the 2023-2024 fishing year and subsequent years. The commercial ACL would be set equal to 3,110,400 lb (1,410,854 kg) in the 2022-2023 fishing year and 3,196,800 lb (1,450,044 kg) in the 2023-2024 fishing year and subsequent fishing years. The commercial ACL is further divided into zone and gear component specific quotas with 40 percent going to the western zone quota, 18 percent going to the northern zone quota, 21 percent going to the southern zone hook-and-line quota, and 21 percent going to the southern zone gillnet quota. Overall, the proposed increase to the Gulf king mackerel commercial ACL, relative to the status quo commercial ACL of 2,740,000 lb (1,242,843 kg), would be 370,400 lb (168,011 kg) in the 2022-2023 fishing year and 456,800 lb (207,201 kg) in the 2023-2024 fishing year and subsequent years.

If commercial vessels harvest the full commercial ACL proposed for 2022-2023, it would result in an aggregate increase in annual ex-vessel revenue of $833,400 (2021 dollars). The western zone would be expected to see an increase of $333,360 (2021 dollars) in ex-vessel revenue; the northern zone would be expected to see an increase of $150,012 in ex-vessel revenue; and the southern zone would be expected to see an increase of $350,028 in ex-vessel revenue, which would be split in half among the hook-and-line vessels and gillnet vessels. On average from 2016 through 2020, there were approximately 363 federally permitted commercial vessels (Gulf and South Atlantic combined) that harvested and sold Gulf king mackerel each year. Assuming the potential aggregate increase in ex-vessel revenue from this proposed action is shared evenly by these vessels, it would result in a per-vessel increase in annual ex-vessel revenue of approximately $2,300 (2021 dollars) for the 2022-2023 fishing year. This would represent an increase in per vessel average annual gross revenue of approximately 2 percent and 6 percent for Gulf and South Atlantic vessels, respectively. Individual vessels may experience varying levels of economic effects, depending on their fishing practices, operating characteristics, and profit maximization strategies.

In the 2023-2024 fishing year and subsequent years, the proposed increase, if harvested in full, would result in $1,027,800 in additional annual ex-vessel revenue (2021 dollars). The western zone would be expected to see an increase of $411,120 (2021 dollars) in ex-vessel revenue; the northern zone would be expected to see an increase of $185,004 in ex-vessel revenue; and the southern zone would be expected to see an increase of $431,676 in ex-vessel revenue, which would be split in half among hook-and-line vessels and gillnet vessels. Assuming the potential increase in ex-vessel revenue from this proposed action is shared evenly by the 363 vessels that harvested Gulf king mackerel (on average from 2016 through 2020), it would result in a per-vessel increase in annual ex-vessel revenue of $2,800 (2021 dollars) during the 2023-2024 fishing year and subsequent years. This would represent an increase in per vessel average annual gross revenue of approximately 3 percent and 7 percent for Gulf and South Atlantic vessels, respectively. Individual vessels may experience varying levels of economic effects, depending on their fishing practices, operating characteristics, and profit maximization strategies.

In summary, the information provided above supports a determination that this proposed rule would not have a significant economic impact on a substantial number of small entities. As a result, an initial regulatory flexibility analysis is not required and none has been prepared.

No duplicative, overlapping, or conflicting Federal rules have been identified. In addition, no new reporting, record-keeping, or other compliance requirements are introduced by this proposed rule.

This proposed rule contains no information collection requirements under the Paperwork Reduction Act of 1995.

List of Subjects in 50 CFR Part 622

Annual catch limits, Fisheries, Fishing, Gulf of Mexico, King mackerel, Quotas.

Dated: October 3, 2022.
Samuel D. Rauch, III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.384, revise paragraphs (b)(1)(i), (ii), and (iii) to read as follows:

§ 622.384 Quotas.

* * * * *

(b) * * *

(1) * * *

(i) Western zone. The quota is 1,199,360 lb (544,021 kg) for the 2021-2022 fishing year, 1,244,160 lb (564,341 kg) for the 2022-2023 fishing year, and 1,278,720 lb (580,018 kg) for the 2023-2024 fishing year and subsequent fishing years.

(ii) Northern zone. The quota is 539,712 lb (244,809 kg) for the 2021-2022 fishing year, 559,872 lb (253,954 kg) for the 2022-2023 fishing year, and 575,424 lb (261,008 kg) for the 2023-2024 fishing year and subsequent fishing years.

(iii) Southern zone. (A) The hook-and-line quota is 629,664 lb (285,611 kg) for the 2021-2022 fishing year, 653,184 lb (296,279 kg) for the 2022-2023 fishing year, and 671,328 lb (304,509 kg) for the 2023-2024 and subsequent fishing years.

(B) The run-around gillnet quota is 629,664 lb (285,611 kg) for the 2021-2022 fishing year, 653,184 lb (296,279 kg) for the 2022-2023 fishing year, and 671,328 lb (304,509 kg) for the 2023-2024 and subsequent fishing years.

* * * * *

3. In § 622.388, revise paragraphs (a)(1)(ii) and (a)(2) to read as follows:

§ 622.388 Annual catch limits (ACLs), annual catch targets (ACTs), and accountability measures (AMs).

* * * * *

(a) * * *

(1) * * *

(ii) The commercial ACL for the Gulf migratory group of king mackerel is 2,998,400 lb (1,360,051 kg) for the 2021-2022 fishing year, 3,110,400 lb (1,410,854 kg) for the 2022-2023 fishing year, and 3,196,800 lb (1,450,044 kg) for the 2023-2024 and subsequent fishing years. The ACL is further divided into a commercial ACL for vessels fishing with hook-and-line and a commercial ACL for vessels fishing with run-around gillnets. The hook-and-line ACL (which applies to the entire Gulf) is 2,368,736 lb (1,074,441 kg) for the 2021-2022 fishing year, 2,457,216 lb (1,114,574 kg) for the 2022-2023 fishing year, and 2,525,472 lb (1,145,535 kg) for the 2023-2024 and subsequent fishing years. The run-around gillnet ACL (which applies to the southern zone) is 629,664 lb (285,611 kg) for the 2021-2022 fishing year, 653,184 lb (296,279 kg) for the 2022-2023 fishing year, and 671,328 lb (304,509 kg) for the 2023-2024 and subsequent fishing years.

* * * * *

(2) Recreational sector. If recreational landings, as estimated by the SRD, reach or are projected to reach the recreational ACL of 6,371,600 lb (2,890,109 kg) for the 2021-2022 fishing year, 6,609,600 lb (2,998,064 kg) for the 2022-2023 fishing year, and 6,793,200 lb (3,081,344 kg) for the 2023-2024 and subsequent fishing years, the AA will file a notification with the Office of the Federal Register to implement bag and possession limits for Gulf migratory group king mackerel of zero, unless the best scientific information available determines that a bag limit reduction is unnecessary.

* * * * *

[FR Doc. 2022-21807 Filed 10-6-22; 8:45 am]

BILLING CODE 3510-22-P